DEPARTMENT OF TRANSPORTATION

Federal Railroad Administration

[Docket No.'s FRA-2000-6923 and FRA-2000-6924]

Cancellation of Public Hearing; CSX Transportation, Inc.

The Federal Railroad Administration (FRA) has cancelled the public hearing on the captioned block signal applications, because docketed applications FRA-2000-6923 and FRA-2000-6924 have been withdrawn by the railroad.

The hearing had been scheduled for February 6, 2001, in Cambridge, Massachusetts.

The withdrawn CSX Transportation, Incorporated's applications were seeking approval of the proposed discontinuance and removal of the manual block systems (DCS Operating Rules), on the single secondary track, between Weir, milepost 13.3 and Dock, milepost 28.2, near New Bedford, Massachusetts, New Bedford Subdivision, and on the single secondary track, between Swamp, milepost 0.0 and Wharf, milepost 12.0, near Fall River, Massachusetts, Fall River Subdivision, Albany Service Lane, and re-designation of the secondary tracks to industrial tracks. (See the original hearing notice in Federal Register Vol. 66, No. 9, Friday, January 12, 2001, page 2951.)

The FRA regrets any inconvenience occasioned by the cancellation of this hearing.

Issued in Washington, DC on January 31, 2001.
Michael J. Logue,
Deputy Associate Administrator for Safety Compliance and Program Implementation.

[FR Doc. 01-3130 Filed 2-6-01; 8:45 am]

BILLING CODE 4910-06-P